DEPARTMENT OF EDUCATION

A Framework for Developing High-Quality English Language Proficiency Standards and Assessments

AGENCY: Office of the Deputy Secretary, Department of Education.

ACTION: Notice; correction.

SUMMARY: On June 6, 2007, the Secretary of Education (Secretary) published a notice in the Federal Register (72 FR 31300) announcing plans to hold three public meetings to seek recommendations on developing a Framework for States to consider in examining the quality of their standards and assessments for English language proficiency (ELP) under Title III of the Elementary and Secondary Education Act of 1965 (ESEA), as amended by the No Child Left Behind Act of 2001 (NCLB). The name of the hotel listed as the site for the July 18, 2007 meeting has been changed.

FOR FURTHER INFORMATION CONTACT: Hanna Skandera. Telephone: (202) 401-0831.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

Correction

In the Federal Register of June 6, 2007, on page 31301, in the third column, under Announcement of Public Meetings, correct the third paragraph to read as follows:

Wednesday, July 18, 2007, in Washington, DC at the Westin Washington, DC City Center, 1400 M Street, NW., from 2 p.m. to 6 p.m.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 3, 2007.
Raymond Simon,
Deputy Secretary.

[FR Doc. E7-13223 Filed 7-6-07; 8:45 am]

BILLING CODE 4000-01-P